SMALL BUSINESS ADMINISTRATION

13 CFR Ch. I

Semiannual Regulatory Agenda

AGENCY: U.S. Small Business Administration (SBA).

ACTION: Semiannual regulatory agenda.

SUMMARY: This Regulatory Agenda is a semiannual summary of all current and projected rulemakings and completed actions of the Small Business Administration (SBA). SBA expects that this summary information will enable the public to be more aware of, and effectively participate in, SBA's regulatory activity. SBA invites the public to submit comments on any aspect of this Agenda.

FOR FURTHER INFORMATION CONTACT:

General

Please direct general comments or inquiries to Imelda A. Kish, Law Librarian, U.S. Small Business Administration, 409 Third Street SW., Washington, DC 20416, (202) 205-6849, imelda.kish@sba.gov.

Specific

Please direct specific comments and inquiries on individual regulatory activities identified in this Agenda to the individual listed in the summary of the regulation as the point of contact for that regulation.

SUPPLEMENTARY INFORMATION: SBA provides this notice under the requirements of the Regulatory Flexibility Act, 5 U.S.C. sections 601 to 612 and Executive Order 12866, “Regulatory Planning and Review,” which require each agency to publish a semiannual agenda of regulations. The Regulatory Agenda is a summary of all current and projected Agency rulemakings, as well as actions completed since the publication of the last Regulatory Agenda. SBA's last Semiannual Regulatory Agenda was published on December 22, 2014, at 79 FR 76788. The Semiannual Agenda of the SBA conforms to the Unified Agenda format developed by the Regulatory Information Service Center.

Beginning with the fall 2007 edition, the Unified Agenda has been disseminated via the Internet. The complete Unified Agenda will be available online at www.reginfo.gov in a format that greatly enhances a user's ability to obtain information about the rules in SBA's Agenda.

The Regulatory Flexibility Act requires federal agencies to publish their regulatory flexibility agendas in the Federal Register. Therefore, SBA's printed agenda entries include regulatory actions that are in the SBA's regulatory flexibility agenda because they are likely to have a significant economic impact on a substantial number of small entities. Printing of these entries is limited to fields that contain information required by the Regulatory Flexibility Act's Agenda requirements. Additional information on these entries is available in the Unified Agenda published on the Internet.

Maria Contreras-Sweet,
Administrator.

Small Business Administration—Prerule Stage
Sequence No. | Title | Regulation Identifier No.
224 | Small Business Timber Set Aside Program | 3245-AG69

Small Business Administration—Proposed Rule Stage
Sequence No. | Title | Regulation Identifier No.
225 | Small Business Development Center Program Revisions | 3245-AE05
226 | Loan Program Miscellaneous Amendments | 3245-AF85
227 | Implementation of Small Business Disaster Response and Loan Improvement Act: Expedited Disaster Assistance Program | 3245-AF88
228 | Implementation of Small Business Disaster Response and Loan Improvement Act: Private Disaster Loan Program | 3245-AF99
229 | Office of Women Owned Business: Women's Business Center Program | 3245-AG02
230 | Small Business Size Standards; Alternative Size Standard for 7(a), 504, and Disaster Loan Programs | 3245-AG16
231 | Small Business HUBZone Program | 3245-AG38
232 | Record Disclosure and Privacy | 3245-AG52
233 | Small Business Innovation Research (SBIR) and Small Business Technology Transfer (STTR) Policy Directives; Data Rights; Phase III Award Preference; Other Clarifying Amendments | 3245-AG64
234 | Small Business Investment Companies; Impact SBICs | 3245-AG66
235 | Small Business Investment Companies; Passive Business Expansion & Technical Clarifications | 3245-AG67
236 | Surety Bond Guarantee Program; Miscellaneous Amendments | 3245-AG70
237 | Credit for Lower Tier Subcontracting | 3245-AG71
238 | Women-Owned Small Business Federal Contract Program | 3245-AG72
239 | Affiliation for Business Loan Programs and Surety Bond Guarantee Program | 3245-AG73

Small Business Administration—Final Rule Stage
Sequence No. | Title | Regulation Identifier No.
240 | Small Business Mentor-Protégé Programs | 3245-AG24
241 | Agent Revocation and Suspension Procedures | 3245-AG40
242 | Small Business Size Standards: Employee Based Size Standards in Wholesale Trade and Retail Trade | 3245-AG49
243 | Small Business Size Standards for Manufacturing | 3245-AG50
244 | Small Business Size Standards: Industries With Employee-Based Size Standards Not Part of Manufacturing, Wholesale Trade, or Retail Trade | 3245-AG51
245 | Small Business Government Contracting and National Defense Authorization Act of 2013 Amendments | 3245-AG58
246 | Advisory Small Business Size Decisions | 3245-AG59
247 | Small Business Size Standards; Inflation Adjustment to Monetary-Based Size Standards | 3245-AG60

SMALL BUSINESS ADMINISTRATION (SBA)

Prerule Stage

224. Small Business Timber Set Aside Program

Legal Authority: 15 U.S.C. 631; 15 U.S.C. 644(a)

Abstract: Under the Small Business Timber Set-Aside Program, timber sales must be set aside for small business when small business participation falls below a certain amount. This threshold is based on a computation of small business participation in a prior five-year period. Through this ANPRM SBA will seek public comment and information on whether the saw timber volume purchased through stewardship timber contracts should be included, which may expand the small business set-aside calculation. SBA will also seek public comment on whether the appraisal point used in set-aside sales should be the nearest small business mill to reflect the actual cost to an eligible bidder. In addition, SBA is requesting data from the timber industry to help evaluate the current program and economic impact of potential changes.

Timetable:

Action | Date | FR Cite
ANPRM | 03/25/15 | 80 FR 15697
ANPRM Comment Period End | 05/26/15
NPRM | 12/00/15

Regulatory Flexibility Analysis Required: Yes.

Agency Contact: Brenda J. Fernandez, Procurement Analyst, Small Business Administration, 409 Third Street SW., Washington, DC 20416, Phone: 202 205-7337, Email: brenda.fernandez@sba.gov.

RIN: 3245-AG69

SMALL BUSINESS ADMINISTRATION (SBA)

Proposed Rule Stage

225. Small Business Development Center Program Revisions

Legal Authority: 15 U.S.C. 634(b)(6); 15 U.S.C. 648

Abstract: Updates the SBDC program regulations by amending the (1) procedures for approving applications for new Host SBDCs; (2) approval procedures for travel outside the continental U.S. and U.S. territories; (3) procedures and requirements regarding findings and disputes resulting from financial exams, programmatic reviews, accreditation reviews, and other SBA oversight activities; (4) requirements for new or renewal applications for SBDC grants, including the requirements for electronic submission through the approved electronic Government submission facility; and (5) provisions regarding the collection and use of the individual SBDC client data.

Timetable:

Action | Date | FR Cite
ANPRM | 04/02/15 | 80 FR 17708
ANPRM Comment Period End | 06/01/15
NPRM | 01/00/16

Regulatory Flexibility Analysis Required: Yes.

Agency Contact: J. Chancy Lyford, Deputy Associate Administrator, Office of Small Development Centers, Small Business Administration, 409 Third Street SW., Washington, DC 20416, Phone: 202 205-7159, Fax: 202 481-2613, Email: chancy.lyford@sba.gov.

RIN: 3245-AE05

226. Loan Program Miscellaneous Amendments

Legal Authority: 15 U.S.C. 636(a)(31) and (35)

Abstract: Preferred Lender Program (PLP) and SBA Express and Export Express lenders are those which have been delegated the loan decision without prior approval from SBA under certain circumstances. The Express programs will be memorialized in regulations in this proposal. Several minor modifications to the 504 Loan Program and governance rules for Certified Development Company (CDC) are also proposed in a follow-on to the recent Final Rule: 504 and 7(a) Loan Program Updates (March 21, 2014), along with alignment of terminology for 7(a) lenders that are federally regulated to synchronize with existing industry requirements. Finally, SBA plans to propose several miscellaneous amendments to improve operations of its finance and disaster programs.

Timetable:

Action | Date | FR Cite
NPRM | 10/00/15 |

Regulatory Flexibility Analysis Required: Yes.

Agency Contact: Linda Rusche, Director, Office of Financial Assistance, Small Business Administration, 409 Third Street SW., Washington, DC 20416, Phone: 202 205-6396, Email: linda.rusche@sba.gov.

RIN: 3245-AF85

227. Implementation of Small Business Disaster Response and Loan Improvement Act: Expedited Disaster Assistance Program

Legal Authority: 15 U.S.C. 636j

Abstract: This proposed rule would establish and implement an expedited disaster assistance business loan program under which the SBA will guarantee short-term loans made by private lenders to eligible small businesses located in a catastrophic disaster area. The maximum loan amount is $150,000, and SBA will guarantee timely payment of principal and interest to the lender. The maximum loan term will be 180 days, and the interest rate will be limited to 300 basis points over the Federal funds rate.

Timetable:

Action | Date | FR Cite
NPRM | 11/00/15 |

Regulatory Flexibility Analysis Required: Yes.

Agency Contact: Linda Rusche, Director, Office of Financial Assistance, Small Business Administration, 409 Third Street SW., Washington, DC 20416, Phone: 202 205-6396, Email: linda.rusche@sba.gov.

RIN: 3245-AF88

228. Implementation of Small Business Disaster Response and Loan Improvement Act: Private Disaster Loan Program

Legal Authority: 15 U.S.C. 636(c)

Abstract: This proposed rule would establish and implement a private disaster loan program under which SBA will guarantee loans made by qualified lenders to eligible small businesses and homeowners located in a catastrophic disaster area. Private disaster loans made under this programs will have the same terms and conditions as SBA's direct disaster loans. In addition, SBA will guarantee timely payment of principal and interest to the lender. SBA may guarantee up to 85 percent of any loan under this program, and the maximum loan amount is $2 million.

Timetable:

Action | Date | FR Cite
NPRM | 11/00/15 |

Regulatory Flexibility Analysis Required: Yes.

Agency Contact: Linda Rusche, Director, Office of Financial Assistance, Small Business Administration, 409 Third Street SW., Washington, DC 20416, Phone: 202 205-6396, Email: linda.rusche@sba.gov.

RIN: 3245-AF99

229. Office of Women Owned Business: Women's Business Center Program

Legal Authority: 15 U.S.C. 631; 15 U.S.C. 656

Abstract: SBA's Office of Women's Business Ownership (OWBO) oversees a network of SBA-funded Women's Business Centers (WBCs) throughout the United States and its territories. WBCs provide management and technical assistance to small business concerns both nascent and established, with a focus on such businesses that are owned and controlled by women, or on women planning to start a business, especially women who are economically or socially disadvantaged. The training and counseling provided by the WBCs encompass a comprehensive array of topics, such as finance, management and marketing in various languages. This rule would propose to codify the requirements and procedures that govern the delivery, funding and evaluation of the management and technical assistance provided under the WBC Program. The rule would address, among other things, the eligibility criteria for selection as a WBC, use of Federal funds, standards for effectively carrying out program duties and responsibilities, and the requirements for reporting on financial and programmatic performance.

Timetable:

Action | Date | FR Cite
ANPRM | 04/22/15 | 80 FR 22434
ANPRM Comment Period End | 06/22/15 |
NPRM | 05/00/16 |

Regulatory Flexibility Analysis Required: Yes.

Agency Contact: Bruce D. Purdy, Deputy Assistant Administrator, Office of Women's Business Ownership, Small Business Administration, Washington, DC 20416, Phone: 202 205-7532, Email: bruce.purdy@sba.gov.

RIN: 3245-AG02

230. Small Business Size Standards; Alternative Size Standard for 7(A), 504, and Disaster Loan Programs

Legal Authority: Pub. L. 111-240, sec 1116

Abstract: SBA will amend its size eligibility criteria for Business Loans, community development company (CDC) loans under title V of the Small Business Investment Act (504) and economic injury disaster loans (EIDL). For the SBA 7(a) Business Loan Program and the 504 program, the amendments will provide an alternative size standard for loan applicants that do not meet the small business size standards for their industries. The Small Business Jobs Act of 2010 (Jobs Act) established alternative size standards that apply to both of these programs until SBA's Administrator establishes other alternative size standards. For the disaster loan program, the amendments will provide an alternative size standard for loan applicants that do not meet the Small Business Size Standard for their industries. These alternative size standards do not affect other Federal Government programs, including Federal procurement.

Timetable:

Action | Date | FR Cite
NPRM | 11/00/15 |

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG16

231. Small Business Hubzone Program

Legal Authority: 15 U.S.C. 657a

Abstract: SBA has been reviewing its processes and procedures for implementing the HUBZone program and has determined that several of the regulations governing the program should be amended in order to resolve certain issues that have arisen. As a result, the proposed rule would constitute a comprehensive revision of part 126 of SBA's regulations to clarify current HUBZone Program regulations, and implement various new procedures. The amendments will make it easier for participants to comply with the program requirements and enable them to maximize the benefits afforded by participation. In developing this proposed rule, SBA will focus on the principles of Executive Order 13563 to determine whether portions of regulations should be modified, streamlined, expanded or repealed to make the HUBZone program more effective and/or less burdensome on small business concerns. At the same time, SBA will maintain a framework that helps identify and reduce waste, fraud, and abuse in the program.

Timetable:

Action | Date | FR Cite
NPRM | 05/00/15 |

Regulatory Flexibility Analysis Required: Yes.

Agency Contact: Mariana Pardo, Director, Office of HubZone, Small Business Administration, 409 3rd Street SW., Washington, DC 20416, Phone: 202 205-2985, Email: mariana.pardo@sba.gov.

RIN: 3245-AG38

232. Record Disclosure and Privacy

Legal Authority: 5 U.S.C. 301, 552 and 552(a); 31 U.S.C. 9701; 44 U.S.C. 3501 et seq.; E.O. 12600; 52 FR 23781

Abstract: SBA is amending its Record Disclosure and Privacy regulations to implement the Openness Promotes Effectiveness in our National Government Act. The amendments, among other things, will update the Agency's Freedom of Information Act regulations to adjust the time for the public to submit an appeal of SBA's decision regarding a request for information, correct an obsolete address and provide applicable Web site addresses, and clarify the definition of news media for purposes of assessing processing fees.

Timetable:

Action | Date | FR Cite
NPRM | 10/00/15

Regulatory Flexibility Analysis Required: Yes.

Agency Contact: Linda M. DiGiandomenico, Acting Chief, Freedom of Information, Small Business Administration, 409 Third Street SW., Washington, DC 20416, Phone: 202 401-8206, Email: linda.digiandomenico@sba.gov.

RIN: 3245-AG52

233. Small Business Innovation Research (SBIR) and Small Business Technology Transfer (STTR) Policy Directives; Data Rights; Phase III Award Preference; Other Clarifying Amendments

Legal Authority: 15 U.S.C. 638(p); Pub. L. 112-81, sec 5001, et seq.

Abstract: This Directive seeks comments from the public on two key areas of the Small Business Innovation Research (SBIR) and Small Business Technology Transfer (STTR) Policy Directives that the SBA is considering revising: SBIR/STTR data rights, and the Government's responsibilities with respect to SBIR/STTR Phase III awards. The SBA intends to update policy directive language on miscellaneous topics including the calculation of extramural R/R&D and to provide greater clarity and detail on these issues in the Policy Directive. SBA also intends to combine the directives for the two programs into a single document to simplify the reference and revision processes.

Timetable:

Action | Date | FR Cite
ANPRM | 11/07/14 | 79 FR 66342
ANPRM Comment Period End | 01/06/15
NPRM | 09/00/15

Regulatory Flexibility Analysis Required: Yes.

Agency Contact: Edsel M. Brown Jr., Assistant Director, Office of Innovation, Small Business Administration, 409 Third Street SW., Washington, DC 20416, Phone: 202 205-6450, Email: edsel.brown@sba.gov.

RIN: 3245-AG64

234. Small Business Investment Companies; Impact SBICs

Legal Authority: 15 U.S.C. 681

Abstract: This rule will establish a regulatory structure for the SBIC Programs Impact Investment Fund, which is currently being implemented through a policy memorandum to interested applicants. The rule will establish a new type of SBIC license called the Impact SBIC license and will include application and examination fee considerations to incentivize Impact Investment Fund participation. Impact SBICs may also be able to access Early Stage leverage on the same terms as Early Stage SBICs without applying through the Early Stage call process defined in 107.310. This will allow Impact SBICs with early stage strategies to apply for the program. The new license will be available to investment funds that meet the SBIC Programs licensing qualifications and commit to invest at least 50% of their invested capital in impact investments as defined in the rule. The rule will also outline reporting and performance measures for licensed funds to maintain Impact Investment Fund designation. The goal of the Impact Investment Fund is to support small business investment strategies that maximize financial returns while also yielding enhanced social environmental or economic impacts as part of the SBIC Programs overall effort to supplement the flow of private equity and long-term loan funds to small businesses whose capital needs are not being met.

Timetable:

Action | Date | FR Cite
NPRM | 08/00/15

Regulatory Flexibility Analysis Required: Yes.

Agency Contact: Jeff Finkelman, Presidential Management Fellow, Small Business Administration, 409 Third Street SW., Washington, DC 20416, Phone: 202 205-2414, Email: jeff.finkelman@sba.gov.

RIN: 3245-AG66

235. Small Business Investment Companies; Passive Business Expansion & Technical Clarifications

Legal Authority: 15 U.S.C. 681 et seq.

Abstract: The SBA proposes to revise the regulations for the Small Business Investment Company (SBIC) program to further expand the use of Passive Businesses and provide needed protections for SBA with regard to such investments. SBICs are generally prohibited from investing in passive businesses under the Small Business Investment Act of 1958 as amended as well as by regulations. Current program regulations provided for two exceptions that allow an SBIC to structure an investment utilizing a passive small business as a pass-through. The first exception identified in 107.720(b)(2) provides that an SBIC may structure an investment utilizing two pass-through entities to make an investment into an active business . The second exception identified in 107.720(b)(3) allows partnership SBICs with SBA prior approval to invest in a wholly owned passive business that in turn provides financing to an active small business only if a direct financing would cause its investors to incur Unrelated Business Taxable Income (UBTI). The second exception is commonly known as a blocker corporation. The current rule creates unnecessary complications in defining two exceptions and does not provide SBA with sufficient protections. SBA proposes to simplify the rule to allow a more flexible two pass-through entity structure but provides SBA certain protections to offset risks associated with passive investment structures. As part of the proposed rule, SBA will also make technical corrections and clarifications.

Timetable:

Action | Date | FR Cite
NPRM | 07/00/15 |

Regulatory Flexibility Analysis Required: Yes.

Agency Contact: Theresa M. Jamerson, Senior Policy Advisor, Investment Division, Small Business Administration, 409 3rd Street SW., Washington, DC 20461, Phone: 202 205-7563, Email: theresa.jamerson@sba.gov.

RIN: 3245-AG67

236. • Surety Bond Guarantee Program; Miscellaneous Amendments

Legal Authority: 15 U.S.C. 694b

Abstract: This rule proposes to change the regulations for SBA's Surety Bond Guarantee Program in four areas. First, as a condition for participating in the Prior Approval Program, the proposal would clarify that a Surety must directly employ an underwriting staff sufficient to oversee this function. Second, the proposed rule would require all Sureties to directly employ sufficient staff to perform all claims functions, and to vest final settlement authority for claims and recovery only in salaried employees of the Surety. Third, the proposal would provide that all costs incurred by the Surety's salaried claims staff are ineligible for reimbursement by SBA, but the Surety may seek reimbursement for amounts paid for specialized services that are provided by outside consultants in connection with the processing of a claim. Fourth, the rule proposes to modify the criteria for determining when a Principal that caused a Loss to SBA is ineligible for a bond guaranteed by SBA.

Timetable:

Action | Date | FR Cite
NPRM | 08/00/15 |

Regulatory Flexibility Analysis Required: Yes.

Agency Contact: Barbara J. Brannan, Management Analyst, Office of Surety Guarantees, Small Business Administration, Washington, DC 20416, Phone: 202 205-6545, Email: barbara.brannan@sba.gov.

RIN: 3245-AG70

237. • Credit for Lower Tier Subcontracting

Legal Authority: Pub. L. 113-66, sec. 1614

Abstract: The U.S. Small Business Administration (SBA or Agency) is amending its regulations to implement Section 1614 of the National Defense Authorization Act (NDAA) of 2014, Pub. L. 113-66, December 26, 2013. Under the statute, when an other than small prime contractor has an individual subcontracting plan for a contract, the large business may receive credit towards its small business subcontracting goals for subcontract awards made to small business concerns at any tier. Currently, other than small business prime contractors only report on their performance awarding subcontracts to small businesses at the first tier level.

Timetable:

Action | Date | FR Cite
NPRM | 06/00/15 |

Regulatory Flexibility Analysis Required: Yes.

Agency Contact: Kenneth Dodds, Director, Office of Government Contracting, Small Business Administration, 409 3rd Street SW., Washington, DC 20416, Phone: 202 619-1766, Fax: 202 481-2950, Email: kenneth.dodds@sba.gov.

RIN: 3245-AG71

238. • Women-Owned Small Business Federal Contract Program

Legal Authority: 15 U.S.C. 637(m); 15 U.S.C. 634(b)(6)

Abstract: Section 825 of the National Defense Authorization Act for Fiscal Year 2015 (NDAA), P. L. 113-291, 128 Stat. 3292, Dec. 19, 2014, included language granting contracting officers the authority to award sole source contracts to WOSBs and EDWOSBs. In order to implement this statutory change, SBA is proposing to amend 13 CFR part 127. SBA is proposing to amend Subpart E by incorporating the statutory language granting authority for sole source contracts. This new language would be in 127.504. If a contracting officer conducts market research in an industry where a WOSB or EDWOSB set aside is authorized, and the contracting officer cannot identify two or more WOSBs or EDWOSBs that can perform at a fair and reasonable price, but identifies one WOSB or EDWOSB that can perform at a fair and reasonable price, the contracting officer would be able to award the contract on a sole source basis, if the value of the contract, including options, does not exceed $6.5 million for manufacturing contracts and $4 million for all other contracts. Section 825 of the NDAA also accelerated a statutory deadline by two years for SBA to conduct a study to determine the industries where WOSBs and EDWOSBs are substantially underrepresented or underrepresented. SBA must complete the study by January, 2, 2016. SBA intends to amend the regulatory definition of underrepresentation and substantial underrepresentation to align the regulatory definition with the more general statutory language and to ensure the agency can conduct a study using relevant and reliable methodologies.

Timetable:

Action | Date | FR Cite
NPRM | 05/01/15 | 80 FR 24846
NPRM Comment Period End | 06/30/15 |
Final Rule | 08/00/15 |

Regulatory Flexibility Analysis Required: Yes.

Agency Contact: Kenneth Dodds, Director, Office of Government Contracting, Small Business Administration, 409 3rd Street SW., Washington, DC 20416, Phone: 202 619-1766, Fax: 202 481-2950, Email: kenneth.dodds@sba.gov.

RIN: 3245-AG72

239. • Affiliation for Business Loan Programs and Surety Bond Guarantee Program

Legal Authority: 15 U.S.C. 634(b)(6)

Abstract: This rule would simplify the consideration of affiliated individuals and groups of individuals, which may own minority stakes in multiple businesses. Existing regulation defines groups as being affiliated, and thereby having some form of control, which in most circumstances is not applicable to the borrowing entity. By redefining how these lesser-percentage owners are grouped together, and shifting certain certifications of facts to the borrower, more businesses could be identified as “small” and therefore be eligible for SBA financial assistance. SBA also plans to propose one modification to improve operations of its finance programs.

Timetable:

Action | Date | FR Cite
NPRM | 07/00/15 |

Regulatory Flexibility Analysis Required: Yes.

Agency Contact: Linda Rusche, Director, Office of Financial Assistance, Small Business Administration, 409 Third Street SW., Washington, DC 20416, Phone: 202 205-6396, Email: linda.rusche@sba.gov.

RIN: 3245-AG73

SMALL BUSINESS ADMINISTRATION (SBA)

Final Rule Stage

240. Small Business Mentor-Protégé Programs

Legal Authority: Pub. L. 111-240; sec 1347;15 U.S.C. 657r

Abstract: SBA currently has a mentor-protege program for the 8(a) Business Development Program that is intended to enhance the capabilities of the protege and to improve its ability to successfully compete for Federal contracts. The Small Business Jobs Act authorized SBA to use this model to establish similar mentor-protege programs for the Service Disabled Veteran-Owned, HUBZone, and Women-Owned Small Federal Contract Business Programs and the National Defense Authorization Act for Fiscal Year 2013 authorized this for all small businesses. This authority is consistent with recommendations issued by an interagency task force created by President Obama on Federal Contracting Opportunities for Small Businesses. As is the case with the current mentor-protege program, the various forms of assistance that a mentor will be expected to provide to a protege include technical and/or management assistance; financial assistance in the form of equity investment and/or loans; subcontracts; and/or assistance in performing prime contracts with the Government in the form of joint venture arrangements.

Timetable:

Action | Date | FR Cite
NPRM | 02/05/15 | 80 FR 6618
NPRM Comment Period End | 04/06/15 |
NPRM Comment Period Extension | 04/07/15 | 80 FR 18556
NPRM Comment Period End | 05/06/15 |
Final Rule | 11/00/15 |

Regulatory Flexibility Analysis Required: Yes.

Agency Contact: Brenda J. Fernandez, Procurement Analyst, Small Business Administration, 409 Third Street SW., Washington, DC 20416, Phone: 202 205-7337, Email: brenda.fernandez@sba.gov.

RIN: 3245-AG24

241. Agent Revocation and Suspension Procedures

Legal Authority: 15 U.S.C. 634; 15 U.S.C. 642

Abstract: These changes to 13 CFR 103, 134, and 2 CFR 2700 lay out a procedural process for SBA's revocation of the privilege of agents to conduct business with the Agency. Included in this process are procedures for proposed revocation, the opportunity to object to the proposed revocation, the revocation decision, as well as requests for reconsideration. These procedures also provide for suspension of the privilege to conduct business with the Agency pending a revocation action. In addition, these changes remove Office of Hearings and Appeals review of suspension, revocation, and debarment actions by SBA.

Timetable:

Action | Date | FR Cite
NPRM | 10/16/14 | 79 FR 62060
NPRM Comment Period Extended | 12/12/14 | 79 FR 73853
NPRM Comment Period End | 12/15/14 |
Second NPRM Comment Period End | 02/14/15 |
Final Rule | 11/00/15 |

Regulatory Flexibility Analysis Required: Yes.

Agency Contact: Debra Mayer, Chief, Supervision and Enforcement, Office of Credit Risk Management, Small Business Administration, 409 Third Street SW., Washington, DC 20416, Phone: 202 205-7577, Email: debra.mayer@sba.gov.

RIN: 3245-AG40

242. Small Business Size Standards: Employee Based Size Standards in Wholesale Trade and Retail Trade

Legal Authority: 15 U.S.C. 632(a)

Abstract: On May 19, 2014, the U.S. Small Business Administration (SBA) published a proposed rule to increase employee based size standards in 46 industries in North American Industry Classifcation System (NAICS) Sector 42, Wholesale Trade, and in one industry in Sector 44-45, Retail Trade. As a part of its comprehensive size standards review required by the Small Business Jobs Act of 2012, SBA reviewed all 71 industries in Sector 42 and two industries with employee based size standards in Sector 44-45 to determine whether their size standards should be retained or revised. The proposed revisions, if adopted, will primarily affect eligibility for SBA's financial assistance programs. This is one of the rules that will examine industries grouped by an NAICS Sector. SBA has applied its “Size Standards Methodology,” which is available on its Web site at http://www.sba.gov/size, to this purposed rule. SBA expects to publish the final rule in the near future.

NOTE: The title for this rule has been changed since the rule was first reported in the Regulatory Agenda on January 8, 2013, from “Small Business Size Standards for Wholesale Trade” to “Small Business Size Standards: Employee Based Size Standards for Wholesale Trade and Retail Trade.” The title was changed to make it clear that the rule also addresses industries with employee based size standards in Retail Trade.

Timetable:

Action | Date | FR Cite
NPRM | 05/19/14 | 79 FR 28631
NPRM Comment Period End | 07/18/14 |
Final Rule | 07/00/15 |

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG49

243. Small Business Size Standards for Manufacturing

Legal Authority: 15 U.S.C. 632(a)

Abstract: On September 10, 2014, the U.S. Small Business Administration (SBA), published a proposed rule to increase employee based size standards for 209 industries in North American Industry Classification System (NAICS) Section 31-33, Manufacturing. SBA also proposed to increase the refining capacity component of the Petroleum Refiners (NAICS 324110) size standard to 200,000 barrels per calendar day total capacity for businesses that are primarily engaged in petroleum refining. The proposed rule also eliminated the requirement that 90 percent of a refiner's output being delivered should be refined by the bidder. As a part of its comprehensive size standards review required by the Small Business Jobs Act of 2010, SBA evaluated all 364 industries in NAICS Sector 31-33 to determine whether their size standards should be retained or revised. This is one of the rules that will examine industries grouped by an NAICS Sector. SBA has applied its “Size Standards Methodology,” which is available on its Web site at http://www.sba.gov/size, to this proposed rule.

Timetable:

Action | Date | FR Cite
NPRM | 09/10/14 | 79 FR 54146
NPRM Comment Period End | 11/10/14 |
Final Rule | 07/00/15 |

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG50

244. Small Business Size Standards: Industries With Employee-Based Size Standards Not Part of Manufacturing, Wholesale Trade, or Retail Trade

Legal Authority: 15 U.S.C. 632(a)

Abstract: On September 10, 2014, the U.S. Small Business Administration (SBA) published a proposed rule to increase to increase the employee-based size standards for 30 industries and three exceptions and decrease them for three industries that are not a part of NAICS Sector 31-33 (Manufacturing) Sector 42 (Wholesale Trade) and Sector 44-45 (Retail Trade). Additionally, SBA proposed to remove the Information Technology Value Added Resellers exception under NAICS 541519 (Other Computer Related Services) together with its 150-employee size standard. Similarly, SBA also proposed to eliminate the Offshore Marine Air Transportation Services exception under NAICS 481211 and 481212 and Offshore Marine Services exception under NAICS Subsector 483 and their $30.5 million receipts based size standard. As part of its comprehensive size standards review required by the Small Business Jobs Act of 2010 SBA evaluated 57 industries and five exceptions with employee based size standards that are not in NAICS Sectors 31-33 42 or 4445. This is one of the rules that will examine industries grouped by an NAICS Sector. SBA has applied its Size Standards Methodology, which is available on its Web site at http://www.sba.gov/size to this proposed rule.

Please Note: The title for this rule has been changed since it was first announced in the Regulatory Agenda on January 8, 2013 to add the words or Retail Trade at the end of the previous title. This change makes it clear that industries in the retail trade with employee based size standards are also not addressed in the rule.

Timetable:

Action | Date | FR Cite
NPRM | 09/10/14 | 79 FR 53646
NPRM Rule Correction | 10/20/14 | 79 FR 62576
NPRM Comment Period End | 11/10/14 |
Final Rule | 07/00/15 |

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG51

245. Small Business Government Contracting and National Defense Authorization Act of 2013 Amendments

Legal Authority: 15 U.S.C. 631; Pub. L. 112-239

Abstract: The rule would propose various small business related amendments authorized by various sections of the NDAA of 2013 with respect to the limitations on subcontracting and non-manufacturer rules that apply to set aside contracts. SBA would propose amendments concerning joint ventures, the applicability of the non-manufacturer rule to the purchase of software; recertification of size; affiliation in the context of Small Innovation Research program; the definition of a construction contract for purposes of an adverse impact analysis in connection with 8(a) Business Development program contract; Procurement Center Representative responsibilities; small business subcontracting assistance and reporting; Certificates of Competency; and penalties for violations of the subcontracting limitations and protection for small businesses that acted in good faith in connection with such limitations.

Timetable:

Action | Date | FR Cite
NPRM | 12/29/14 | 79 FR 77955
NPRM Comment Period End | 02/27/15 |
NPRM Comment Period Reopened | 03/09/15 | 80 FR 12353
Second NPRM Comment Period End | 04/06/15 |
Final Rule | 11/00/15 |

Regulatory Flexibility Analysis Required: Yes.

Agency Contact: Brenda J. Fernandez, Procurement Analyst, Small Business Administration, 409 Third Street SW., Washington, DC 20416, Phone: 202 205-7337, Email: brenda.fernandez@sba.gov.

RIN: 3245-AG58

246. Advisory Small Business Size Decisions

Legal Authority: 15 U.S.C. 645(d)(3)

Abstract: The purpose of the statute is to establish procedures for Small Business Development Centers (SBDCs) (SBA grantees) or Procurement Technical Assistance Centers (PTACs) (DOD grantees) to issue advisory size decisions. This rule provides guidance to SBDCs and PTACs regarding the minimum requirements that small business status advisory opinions must meet in order to be deemed adequate by SBA. The rule also requires the SBDC or PTAC issuing the advisory opinion to remit a copy of the opinion to SBA for review, and established a 10 day deadline by which SBA must either accept or reject the advisory opinion. If SBA rejects the advisory opinion, the Agency will notify the entity which issued the opinion and the firm to which it applies, after which time the firm is no longer entitled to rely upon the opinion or invoke the safe harbor provisions of the statute. If SBA accepts the advisory opinion, then the firm may rely on the SBDC or PTAC advisory opinion and is entitled to invoke the safe harbor provision as a defense to punishments imposed under 15 U.S.C. 645, Offenses and Penalties, which prescribes fines and imprisonment for false statements. The rule also makes clear that SBA has the authority to initiate a formal size determination of a firm that is the subject of a small business status advisory opinion where the Agency concludes that opinion contains information that calls into question the firm's small business status.

Timetable:

Action | Date | FR Cite
NPRM | 06/25/14 | 79 FR 35963
NPRM Comment Period End | 08/25/14 |
Final Rule | 02/11/15 | 80 FR 7533
Final Rule Effective | 08/10/15 |

Regulatory Flexibility Analysis Required: Yes.

Agency Contact: Brenda J. Fernandez, Procurement Analyst, Small Business Administration, 409 Third Street SW., Washington, DC 20416. Phone: 202 205-7337. Email: brenda.fernandez@sba.gov.

RIN: 3245-AG59

247. Small Business Size Standards; Inflation Adjustment to Monetary-Based Size Standards

Legal Authority: 15 U.S.C. 632(a)

Abstract: On June 12, 2014, SBA issued an interim final rule with request for comments to adjust its monetary small business size standards (i.e., receipts, net income, net worth, and financial assets), for the effects of inflation that have occurred since the last inflation adjustment, which was effective August 19, 2008. The interim final rule aimed to restore small business eligibility to businesses that have lost their small business status due to inflation. The Small Business Jobs Act of 2010 (Jobs Act) requires SBA to review and adjust (as necessary) all size standards within five years of its enactment. SBA's Small Business Size Regulations at 13 CFR 121.102(c) require the same quinquennial (or less) review and adjustment. The rule did not increase the $750,000 size standard for agricultural enterprises, which is established by the Small Business Act (§ 3(a)(1)). The alternate size standard used in the 7(a) and 504 business loan programs is unaffected by this adjustment.

Timetable:

Action | Date | FR Cite
Interim Final Rule | 06/12/14 | 79 FR 33647
Interim Final Rule Effective | 07/14/14 |
Interim Final Rule Comment Period End | 08/11/14 |
Final Rule | 05/00/15 |

Regulatory Flexibility Analysis Required: Yes.

Agency Contact: Dr. Khem Raj Sharma, Chief, Office of Size Standards, Small Business Administration, 409 Third Street SW., Washington, DC 20416. Phone: 202 205-7189. Fax: 202 205-6390. Email: khem.sharma@sba.gov.

RIN: 3245-AG60

[FR Doc. 2015-14371 Filed 6-17-15; 8:45 am]

BILLING CODE 8025-01-P